DEPARTMENT OF TRANSPORTATION

Federal Railroad Administration

[Docket No. FRA-2025-0005]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before June 30, 2025.

ADDRESSES: Written comments and recommendations for the proposed ICR should be submitted on regulations.gov to the docket, Docket No. FRA-2025-0005. All comments received will be posted without change to the docket, including any personal information provided. Please refer to the assigned OMB control number (2130-0527) in any correspondence submitted. FRA will summarize comments received in response to this notice in a subsequent notice, made available to the public, and include them in its information collection submission to OMB for approval.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60 days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Railroad Noise Emission Compliance Regulations.

OMB Control Number: 2130-0527

Abstract: Under authority granted by the Noise Control Act of 1972, the Environmental Protection Agency (EPA) has established limits for noise emissions related to rail carriers in 40 CFR part 201. Those limits are enforced by FRA under 49 CFR part 210. Specifically, § 210.27 requires that all new locomotives be tested and certified to comply with the noise emission standards.

The information collected under § 210.27 is used by FRA to confirm that new locomotives are tested and do not emit noise that exceeds the maximum noise standards, in order to control harmful noise and promote public health and welfare.

In this 60-day notice, FRA made no adjustments to the previously approved burden hours and responses in the OMB, Office of Information and Regulatory Affairs (OIRA) inventory.¹

¹ Changes to the total cost equivalent in U.S. dollars, a category not included in the OIRA inventory, are due to updated statistics from the 2023 Surface Transportation Board (STB) Full Year Wage A&B data series.

² The dollar equivalent cost is derived from the 2023 Surface Transportation Board Full Year Wage A&B data series using employee group 200 (Professional Administrative Staff) hourly wage rate of $50.93. The total burden wage rate (straight time plus 75%) used in the table is $89.13 ($50.93 × 1.75 = $89.13).

Type of Request: Extension without change of a currently approved collection.

Affected Public: Businesses.

Form(s): N/A

Respondent Universe: 4 locomotive manufacturers.

Frequency of Submission: On occasion.

Reporting Burden

CFR section | Respondent universe | Total annual responses | Average time per response | Total annual burden hours | Total cost equivalent U.S.D.
|  | (A) | (B) | (A*B=C) | (D=C*wage rate) ²
210.11—Waivers | FRA anticipates zero waivers over the three-year collection period.
210.27—New locomotive certification—Request for certification | 4 locomotive manufacturers | 4 | 30 minutes | 2 | $178.26
210.31—Operation standards (stationary locomotives at 30 meters)—Recorded locomotive noise emission test under the “Remarks” section on the reverse side of Form FRA F 6180.49A | The estimated paperwork burden for recording locomotive noise emission tests is covered under OMB control number 2130-0004 (see § 229.23).
Total | 4 locomotive manufacturers | 4 |  | 2 | $178.26

Total Estimated Annual Responses: 4.

Total Estimated Annual Burden: 2 hours.

Total Estimated Annual Burden Hour Dollar Cost Equivalent: $178.26.

FRA informs all interested parties that it may not conduct or sponsor, and a respondent is not required to respond to, a collection of information that does not display a currently valid OMB control number.

(Authority: 44 U.S.C. 3501-3520.)

Christopher S. Van Nostrand,
Deputy Chief Counsel.

[FR Doc. 2025-07339 Filed 4-28-25; 8:45 am]

BILLING CODE 4910-06-P